INTERNATIONAL TRADE COMMISSION

[Inv. No. 337-TA-395]

Notice of Decision To Extend the Deadline for Determining Whether To Review an Initial Determination on Inventorship

In the Matter of Certain Eprom, Eeprom, Flash Microcontroller Semiconductor Devices and Products Containing Same.

AGENCY: U.S. International Trade Commission.

ACTION: Notice.

SUMMARY: Notice is hereby given that the U.S. International Trade Commission has determined to extend by two weeks, i.e., until July 17, 2000, the deadline for determining whether to review an initial determination (ID) issued on May 17, 2000, by the presiding administrative law judge (ALJ) in the above-captioned investigation.

FOR FURTHER INFORMATION CONTACT: Jean Jackson, Esq., Office of the General Counsel, U.S. International Trade Commission, 500 E Street, SW, Washington, DC 20436, telephone (202) 205-3104. Hearing-impaired persons are advised that information on this matter can be obtained by contacting the Commission's TDD terminal on 202-205-1810. General information concerning the Commission may also be obtained by accessing its Internet server (http://www.usitc.gov).

SUPPLEMENTARY INFORMATION: The Commission instituted this patent-based investigation on March 18, 1997, based on a complaint filed by Atmel Corporation. 62 FR 13706. The complaint alleged that several respondents violated section 337 by importing into the United States, selling for importation, and/or selling in the United States after importation certain electronic products and/or components that infringe one or more of claim 1 of U.S. Letters Patent 4,511,811 (the ’811 patent), claim 1 of U.S. Letters Patent 4,673,829 (the ’829 patent), claim 1 of U.S. Letters Patent 4,974,565 (the ’565 patent) and claims 1-9 of U.S. Letters Patent 4,451,903 (the ’903 patent). The ’565 patent was later withdrawn from the case.

On July 2, 1998, the Commission found that the ’903 patent was unenforceable for failure to name a co-inventor. During the Commission investigation, a U.S. District Court found the ’811 and ’829 patents invalid and the Commission, therefore, applied collateral estoppel to find that the ’811 and ’829 patents were invalid. Atmel obtained a “Certificate of Correction” from the U.S. Patent and Trademark Office which changed the inventorship of the ’903 patent. In view of the fact that the inventors had been corrected on the ’903 patent, Atmel petitioned the Commission on September 8, 1998, to reconsider its finding of no violation based on the unenforceablility of the ’903 patent. The Commission referred the petition to the presiding ALJ on January 25, 1999, for issuance of an ID.

This action is taken under the authority of section 337 of the Tariff Act of 1930, 19 U.S.C. 1337, and section 210.42(h) of the Commission Rules of Practice and Procedure, 19 CFR 210.42(h).

Copies of the nonconfidential version of the ID and all other nonconfidential documents filed in connection with this investigation are or will be available for inspection during official business hours (8:45 a.m. to 5:15 p.m.) in the Office of the Secretary, U.S. International Trade Commission, 500 E Street SW, Washington, DC 20436, telephone 202-205-2000. Public documents are also available for downloading from the Commission's website at http://www.usitc.gov.

By order of the Commission.
Dated: June 6, 2000.
Donna R. Koehnke,
Secretary.

[FR Doc. 00-14762 Filed 6-9-00; 8:45 am]

BILLING CODE 7020-02-P